DEPARTMENT OF DEFENSE

Department of the Navy

Meeting of the Independent Panel To Review the Judge Advocate Requirements of the Department of the Navy; Correction

AGENCY: Department of the Navy, DoD.

ACTION: Notice of open meetings; correction.

SUMMARY: The Independent Panel to Review the Judge Advocate Requirements of the Department of the Navy (DoN) (hereinafter referred to as the Panel) published a document in the Federal Register of December 17, 2010, concerning an open meeting. The document contained an incorrect time for the Panel meeting.

FOR FURTHER INFORMATION CONTACT: Mr. Frank A. Putzu, Designated Federal Official, Department of the Navy, Office of the General Counsel, Naval Sea Systems Command, Office of Counsel, 1333 Isaac Hull Avenue, SE., Washington Navy Yard, Building 197, Room 4W-3153, Washington, DC 20376, via Telephone: 202-781-3097; Fax: 202-781-4628; or E-mail: frank.putzu@navy.mil.

Correction

In the Federal Register of December 17, 2010, in FR Doc. 2010-31797, on page 78979, in the second column, correct the DATES caption to read:

DATES: The meeting will be held on Friday, January 7th, 2011, from 1 p.m. to 5 p.m.

Dated: December 21, 2010.
D. J. Werner,
Lieutenant Commander, Office of the Judge Advocate General, U.S. Navy, Federal Register Liaison Officer.

[FR Doc. 2010-32758 Filed 12-28-10; 8:45 am]

BILLING CODE 3810-FF-P